DEPARTMENT OF HEALTH AND HUMAN SERVICES

Centers for Medicare & Medicaid Services

Statement of Organization, Functions, and Delegations of Authority

Part F of the Statement of Organization, Functions, and Delegations of Authority for the Department of Health and Human Services, Centers for Medicare & Medicaid Services (CMS), (last amended at 75 FR 14176-14178, dated March 24, 2010) is amended to change the title of the Office of Executive Operations and Regulatory Affairs to the Office of Strategic Operations and Regulatory Affairs, to reflect the establishment of a new Federal Coordinated Health Care Office and to update the organization for CMS, as follows:

(1) Under Part F, CMS, FC. 10 Organizations, change the title of the Office of Executive Operations and Regulatory Affairs (FCF) to the Office of Strategic Operations and Regulatory Affairs (FCF).

(2) Under Part F, CMS, FC. 10 Organizations, insert the following new Office after the Center for Medicare and Medicaid Innovation (FCP): “Federal Coordinated Health Care Office (FCQ).”

(3) Under Part F, CMS, FC. 20 Functions, change the title of the Office of Executive Operations and Regulatory Affairs (FCF) to the Office of Strategic Operations and Regulatory Affairs (FCF).

(4) Under Part F, CMS, FC. 20 Functions, insert the following after the description of the Center for Medicare and Medicaid Innovation (FCP):

Federal Coordinated Health Care Office (FCQ)

• Manages the implementation and operation of the Federal Coordinated Health Care Office mandated in section 2602 of the Affordable Care Act, ensuring more effective integration of benefits under Medicare and Medicaid for individuals eligible for both programs and improving coordination between the Federal Government and States in the delivery of benefits for such individuals.

• Monitors and reports on annual total expenditures, health outcomes and access to benefits for all dual eligible individuals, including subsets of the population.

• Coordinates with the Center for Medicare and Medicaid Innovation to provide technical assistance and programmatic guidance related to the testing of various delivery system, payment, service and/or technology models to improve care coordination, reduce costs, and improve the beneficiary experience for individuals dually eligible for Medicare and Medicaid.

• Performs policy and program analysis of Federal and State statutes, policies, rules and regulations impacting the dual eligible population.

• Makes recommendations on eliminating administrative and regulatory barriers between the Medicare and Medicaid programs.

• Develops tools, resources and educational materials to increase dual eligibles' understanding of and satisfaction with coverage under the Medicare and Medicaid programs.

• Provides technical assistance to States, health plans, physicians and other relevant entities of individuals with education and tools necessary for developing integrated programs for dual eligible beneficiaries.

• Consults with the Medicare Payment Advisory Commission and the Medicaid and CHIP Payment Advisory Commission with respect to policies relating to the enrollment in and provision of benefits to dual eligible beneficiaries under Medicare and Medicaid.

• Studies the provision of drug coverage for new full benefit dual eligible individuals.

• Develops policy and program recommendations to eliminate cost shifting between the Medicare and Medicaid program and among related health care providers.

• Develops annual report containing recommendations for legislation that would improve care coordination and benefits for dual eligible individuals.

Authority: 44 U.S.C. 3101.

Dated: December 7, 2010.
Kathleen Sebelius,
Secretary.

[FR Doc. 2010-32957 Filed 12-27-10; 4:15 pm]

BILLING CODE 4120-01-P